DEPARTMENT OF THE INTERIOR

Fish and Wildlife Service

50 CFR Part 17

RIN 1018-AT38

Endangered and Threatened Wildlife and Plants; Designating the Greater Yellowstone Ecosystem Population of Grizzly Bears as a Distinct Population Segment; Removing the Yellowstone Distinct Population Segment of Grizzly Bears From the Federal List of Endangered and Threatened Wildlife

AGENCY: Fish and Wildlife Service, Interior.

ACTION: Proposed rule; Notice of public hearing.

SUMMARY: We, the U.S. Fish and Wildlife Service (Service), announce the location and time of a public hearing to receive public comments on the proposal to establish a distinct population segment (DPS) of the grizzly bear (Ursus arctos horribilis) for the greater Yellowstone Ecosystem and surrounding area and to remove the Yellowstone DPS from the List of Threatened and Endangered Wildlife.

DATES: We will consider comments on this proposed rule received until the close of business on February 15, 2006. A public hearing will be held February 9, 2006.

ADDRESSES: If you wish to comment on the proposal, you may submit your comments and materials concerning this proposal by any one of several methods—

1. You may submit written comments to the Grizzly Bear Recovery Coordinator, U.S. Fish and Wildlife Service, University Hall 309, University of Montana, Missoula, Montana 59812.

2. You may hand deliver written comments to our office at the address given above.

3. You may send comments by electronic mail (e-mail) to FW6_grizzly_yellowstone@fws.gov. See the “Public Comments Solicited” section below for file format and other information about electronic filing.

Comments and materials received, as well as supporting documentation used in preparation of this proposed action, will be available for inspection after the close of the public comment period, by appointment, during normal business hours, at the above address.

We will hold an additional public hearing from 7 p.m. to 9 p.m. on February 9, 2006, at Hilton Garden Inn, 2023 Commerce Way, Bozeman, Montana 59715.

FOR FURTHER INFORMATION CONTACT: Dr. Christopher Servheen, Grizzly Bear Recovery Coordinator, U.S. Fish and Wildlife Service (see ADDRESSES), telephone (406) 243-4903.

SUPPLEMENTARY INFORMATION:

Background

On November 17, 2005, the Service published a proposal to establish a DPS of the grizzly bear (Ursus arctos horribilis) for the greater Yellowstone Ecosystem and surrounding area and to remove the Yellowstone DPS from the List of Threatened and Endangered Wildlife (70 FR 69854). This proposal announced four open houses and one public hearing in early-to mid-January. We are scheduling an additional public hearing in Bozeman, Montana, before the close of the public comment period (see ADDRESSES).

The purpose of the public hearing is to provide additional opportunity for the public to comment on this complex proposal. Public hearings are the only method for comments and data to be presented verbally for entry into the public record of this rulemaking and for our consideration during our final decision. Comments and data also can be submitted in writing or electronically, as described in our November 17, 2005, proposal (70 FR 69854, November 17, 2005) and in the ADDRESSES section above.

Public Comments Solicited

We intend that any final action resulting from this proposed rule will be as accurate and as effective as possible. Therefore, we solicit comments or suggestions from the public, other concerned governmental agencies, the scientific community, industry, or any other interested party concerning this proposed rule. Generally, we seek information, data, and comments concerning the status of grizzly bears in the Yellowstone Ecosystem. Specifically, we seek documented, biological data on the status of the Yellowstone Ecosystem grizzly bears and their habitat, and the management of these bears and their habitat.

Submit comments as indicated under ADDRESSES. If you wish to submit comments by e-mail, please avoid the use of special characters and any form of encryption. Please also include your name and return address in your e-mail message.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name or address, you must state this prominently at the beginning of your comment. However, we will not consider anonymous comments. We will make all submissions from organizations or businesses, and from individuals identifying themselves as representatives or officials of organizations or businesses, available for public inspection in their entirety. Comments and other information received, as well as supporting information used to write this rule, will be available for public inspection, by appointment, during normal business hours at the above address. In making a final decision on this proposed rule, we will take into consideration the comments and any additional information we receive. Such communications may lead to a final rule that differs from this proposal.

Authority

The authority for this action is the Endangered Species Act (16 U.S.C. 1531 et seq.).

Dated: January 19, 2006.
Thomas O. Melius,
Acting Director, Fish and Wildlife Service.

[FR Doc. 06-741 Filed 1-23-06; 12:26 pm]

BILLING CODE 4310-55-P